DEPARTMENT OF AGRICULTURE

Forest Service

Shasta County Resource Advisory Committee

AGENCY: Forest Service, USDA.

ACTION: Notice of meeting.

SUMMARY: The Shasta County Resource Advisory Committee (RAC) will meet at the USDA Service Center in Redding, California, on September 24, 2009, from 8:30 a.m. to 12 noon. The purpose of this meeting is to discuss the Shasta College monitoring program, the project progress report and the Western Shasta RCD proposal. A quorum is not expected in Group C.

DATES: Thursday, September 24, 2009 at 8:30 a.m.

ADDRESSES: The meeting will be held at the USDA Service Center, 3644 Avtech Parkway, Redding, California 96002.

FOR FURTHER INFORMATION CONTACT: Resource Advisory Committee Coordinator John Heibel at (530) 226-2524 or jheibel@fs.fed.us.

SUPPLEMENTARY INFORMATION: The meeting is open to the public. Public input sessions will be provided and individuals will have the opportunity to address the Shasta County Resource Advisory Committee.

Dated: September 8, 2009.
J. Sharon Heywood,
Forest Supervisor, Shasta-Trinity National Forest.

[FR Doc. E9-22153 Filed 9-15-09; 8:45 am]

BILLING CODE M